DEPARTMENT OF AGRICULTURE

Forest Service

Notice of Meeting; Federal Lands Recreation Enhancement Act (Title VIII, Pub. L. 108-447)

AGENCY: Pacific Northwest Region, Forest Service, USDA.

ACTION: Notice of Meeting.

SUMMARY: The Pacific Northwest Recreation Resource Advisory Committee will meet via a conference call. The purpose of the meeting is to review and provide recommendations on recreation fee proposals for facilities and services offered on lands managed by the Forest Service and Bureau of Land Management in Oregon and Washington, under the Federal Lands Recreation Enhancement Act of 2004.

DATES: The conference call will be held on February 2, 2010 from 12:30 p.m. to 4:30 p.m. A public input session will be provided at 1 p.m. on February 2, 2010. Comments will be limited to three minutes per person.

ADDRESSES: Individuals wishing to participate in the conference call or provide public comment should contact Jocelyn Biro, Recreation Program Coordinator (503) 808-2411 or jbiro@fs.fed.us. Send written comments to Dan Harkenrider, Designated Federal Official for the Pacific Northwest Recreation RAC, 902 Wasco Street, Suite 200, Hood River, OR 97031, 541-308-1700 or dharkenrider@fs.fed.us.

FOR FURTHER INFORMATION CONTACT: Dan Harkenrider, Designated Federal Official, 902 Wasco Street, Suite 200, Hood River, OR 97031, 541-308-1700.

SUPPLEMENTARY INFORMATION: The meeting is open to the public. Recreation RAC discussion is limited to Forest Service and Bureau of Land Management staff and Recreation RAC members. However, persons who wish to bring recreation fee matters to the attention of the Committee may file written statements with the Committee staff before or after the meeting. A public input session will be provided and individuals who have made written requests by January 29, 2010, to the Designated Federal Official will have the opportunity to address the Committee during the meeting on February 2, 2010, at 1 p.m.

The Recreation RAC is authorized by the Federal Land Recreation Enhancement Act, which was signed into law by President Bush in December 2004.

Dated: January 6, 2010.
Lenise Lago,
Deputy Regional Forester, Pacific Northwest Region.

[FR Doc. 2010-440 Filed 1-12-10; 8:45 am]

BILLING CODE 3410-11-M